DEPARTMENT OF TRANSPORTATION

Federal Railroad Administration

[Docket Number FRA-2006-25040]

Petition for Waiver of Compliance

Under part 211 of Title 49 Code of Federal Regulations (CFR), this document provides the public notice that by documents dated June 14, 2018, and April 17, 2019, the Capital Metropolitan Transportation Authority (CMTY) petitioned the Federal Railroad Administration (FRA) to modify conditions related to a waiver of compliance from certain provisions of the Federal railroad safety regulations. Specifically, CMTY requests to eliminate temporal separation requirements and the 60 miles-per-hour (MPH) speed restrictions imposed, most recently, in a decision letter dated April 20, 2015. FRA assigned the petition Docket Number FRA-2006-25040.

The CMTY commuter rail system, “Red Line,” connects downtown Austin, Texas, with Austin's northern suburbs along 32 miles with 9 stations. Service began in 2010 with a fleet of six diesel multiple unit (DMU) rail vehicles designated “GTW Generation 1” (GTW G1) built by Stadler Rail. Since 2010, these rail vehicles have operated safely under the conditions of waivers.

In its petition, CMTY states that several technical and mechanical changes have been made to the GTW G1 vehicles. Furthermore, on January 22, 2019, changes to FRA's Passenger Equipment Safety Standards, 49 CFR part 238, became effective. Together, the vehicle modification and updated regulation combine to make CMTY GTW G1 vehicles fully compliant with FRA crashworthiness standards, and more compliant with several items previously waived. As a result, CMTY asks FRA to remove the two waiver conditions requiring temporal separation and the 60 MPH speed restriction.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by July 29, 2019 will be considered by FRA before final action is taken. Comments received after that date will be considered as far as practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Deputy Associate Administrator, Office of Railroad Safety.

[FR Doc. 2019-12548 Filed 6-13-19; 8:45 am]

BILLING CODE 4910-06-P